DEPARTMENT OF TRANSPORTATION

Federal Aviation Administration

14 CFR Part 39

[Docket No. FAA-2017-0481; Product Identifier 2016-NM-196-AD; Amendment 39-19003; AD 2017-17-13]

RIN 2120-AA64

Airworthiness Directives; Bombardier, Inc., Airplanes

AGENCY: Federal Aviation Administration (FAA), Department of Transportation (DOT).

ACTION: Final rule.

SUMMARY: We are adopting a new airworthiness directive (AD) for certain Bombardier, Inc., Model BD-100-1A10 airplanes. This AD was prompted by reports of low clearance in the aft equipment bay between auxiliary power unit (APU) generator power cables and a hydraulic line, which can cause damage to wire insulation. This AD requires an inspection of the APU generator power cables and the adjacent hydraulic line for damage, and repair, if necessary; and modification of the APU generator power cable installation. We are issuing this AD to address the unsafe condition on these products.

DATES: This AD is effective October 2, 2017.

The Director of the Federal Register approved the incorporation by reference of certain publications listed in this AD as of October 2, 2017.

ADDRESSES: For service information identified in this final rule, contact Bombardier, Inc., 400 Côte-Vertu Road West, Dorval, Québec H4S 1Y9, Canada; telephone 514-855-5000; fax 514-855-7401; email thd.crj@aero.bombardier.com; Internet http://www.bombardier.com. You may view this referenced service information at the FAA, Transport Standards Branch, 1601 Lind Avenue SW., Renton, WA. For information on the availability of this material at the FAA, call 425-227-1221. It is also available on the Internet at http://www.regulations.gov by searching for and locating Docket No. FAA-2017-0481.

Examining the AD Docket

You may examine the AD docket on the Internet at http://www.regulations.gov by searching for and locating Docket No. FAA-2017-0481; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Assata Dessaline, Aerospace Engineer, Avionics and Administrative Services Section, FAA, New York ACO Branch, 1600 Stewart Avenue, Suite 410, Westbury, NY 11590; telephone 516-228-7301; fax 516-794-5531.

SUPPLEMENTARY INFORMATION:

Discussion

We issued a notice of proposed rulemaking (NPRM) to amend 14 CFR part 39 by adding an AD that would apply to certain Bombardier, Inc., Model BD-100-1A10 airplanes. The NPRM published in the Federal Register on May 19, 2017 (82 FR 22913) (“the NPRM”). The NPRM was prompted by reports of low clearance in the aft equipment bay between APU generator power cables and a hydraulic line, which can cause damage to wire insulation. The NPRM proposed to require an inspection of the APU generator power cables and the adjacent hydraulic line for damage, and repair, if necessary; and modification of the APU generator power cable installation. We are issuing this AD to prevent electrical arcing from power cables, which could cause a fire in the aft equipment bay.

Transport Canada Civil Aviation (TCCA), which is the aviation authority for Canada, has issued Canadian Airworthiness Directive CF-2016-28, dated September 15, 2016 (referred to after this as the Mandatory Continuing Airworthiness Information, or “the MCAI”), to correct an unsafe condition for certain Bombardier, Inc., Model BD-100-1A10 airplanes. The MCAI states:

Low clearance between the APU generator power cables and a hydraulic return line was found in the Aft Equipment Bay (AEB) on some aeroplanes in service. Absence of clearance can cause damage to the insulation of the wire, which can lead to a fault in the APU electrical system or arcing with the metallic hydraulic return line and could cause a fire in the AEB.

This [Canadian] AD is issued to mandate an [general visual] inspection [for damage] of the APU generator power cables and the hydraulic return line, [and repair, if necessary] and a modification of the clamp arrangement to give sufficient clearance between the power cables and the hydraulic return line.

You may examine the MCAI in the AD docket on the Internet at http://www.regulations.gov by searching for and locating Docket No. FAA-2017-0481.

Comments

We gave the public the opportunity to participate in developing this AD. We received no comments on the NPRM or on the determination of the cost to the public.

Conclusion

We reviewed the relevant data and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

We reviewed Bombardier Service Bulletin 100-24-28, dated July 27, 2016; and Bombardier Service Bulletin 350-24-003, dated July 27, 2016. This service information describes procedures for the inspection of the APU generator power cables and adjacent hydraulic line for damage, and repair, if necessary; and modification of the APU generator power cable installation. These documents are distinct since they apply to different airplane configurations. This service information is reasonably available because the interested parties have access to it through their normal course of business or by the means identified in the ADDRESSES section.

Costs of Compliance

We estimate that this AD affects 162 airplanes of U.S. registry.

We estimate the following costs to comply with this AD:

Estimated Costs
Action | Labor cost | Parts cost | Cost per product | Cost on U.S. operators
Inspect and modify cables | 1 work-hour × $85 per hour = $85 | (¹) | $85 | $13,770
¹ We have received no definitive data that would enable us to provide cost estimates for the parts cost associated with the modification specified in this AD.

We estimate the following costs to do any necessary repairs that would be required based on the results of the inspection. We have no way of determining the number of aircraft that might need these repairs:

On-Condition Costs
Action | Labor cost | Parts cost | Cost per product
Repair | Up to 5 work-hours × $85 per hour = Up to $425 | (¹) | Up to $425.
¹ We have received no definitive data that would enable us to provide cost estimates for the parts cost associated with the repair specified in this AD.

According to the manufacturer, all of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-17-13 Bombardier, Inc.: Amendment 39-19003; Docket No. FAA-2017-0481; Product Identifier 2016-NM-196-AD.

(a) Effective Date

This AD is effective October 2, 2017.

(b) Affected ADs

None.

(c) Applicability

This AD applies to Bombardier, Inc., Model BD-100-1A10 airplanes, certificated in any category, serial numbers 20003 through 20635 inclusive.

(d) Subject

Air Transport Association (ATA) of America Code 24, Electrical power.

(e) Reason

This AD was prompted by reports of low clearance in the aft equipment bay between auxiliary power unit (APU) generator power cables and a hydraulic line, which can cause damage to wire insulation. We are issuing this AD to prevent electrical arcing from power cables, which could cause a fire in the aft equipment bay.

(f) Compliance

Comply with this AD within the compliance times specified, unless already done.

(g) Inspection of APU Generator Power Cables and Hydraulic Line, Repairs, and Modification

Within 24 months after the effective date of this AD, do the applicable actions required by paragraph (g)(1) or (g)(2) of this AD.

(1) For airplanes having serial numbers 20003 through 20500 inclusive: Do a general visual inspection of the APU generator power cables and the adjacent hydraulic line for damage, and do all applicable repairs; and modify the APU generator power cable installation; in accordance with the Accomplishment Instructions of Bombardier Service Bulletin 100-24-28, dated July 27, 2016, except as required by paragraph (h) of this AD. Do all applicable repairs before further flight.

(2) For airplanes having serial numbers 20501 through 20635 inclusive: Do a general visual inspection of the APU generator power cables and the adjacent hydraulic line for damage, and do all applicable repairs; and modify the APU generator power cable installation; in accordance with the Accomplishment Instructions of Bombardier Service Bulletin 350-24-003, dated July 27, 2016, except as required by paragraph (h) of this AD. Do all applicable repairs before further flight.

(h) Exception to the Service Information

Where Bombardier Service Bulletin 100-24-28, dated July 27, 2016; and Bombardier Service Bulletin 350-24-003, dated July 27, 2016, specify to contact the manufacturer for repair, before further flight, repair using a method approved by the Manager, New York ACO Branch, FAA; or Transport Canada Civil Aviation (TCCA); or Bombardier, Inc.'s TCCA Design Approval Organization (DAO).

(i) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO Branch, FAA; or TCCA; or Bombardier, Inc.'s TCCA DAO. If approved by the DAO, the approval must include the DAO-authorized signature.

(j) Related Information

(1) Refer to Mandatory Continuing Airworthiness Information (MCAI) Canadian Airworthiness Directive CF-2016-28, dated September 15, 2016, for related information. This MCAI may be found in the AD docket on the Internet at http://www.regulations.gov by searching for and locating Docket No. FAA-2017-0481.

(2) For more information about this AD, contact Assata Dessaline, Aerospace Engineer, Avionics and Administrative Services Section, FAA, New York ACO Branch, 1600 Stewart Avenue, Suite 410, Westbury, NY 11590; telephone 516-228-7301; fax 516-794-5531.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Bombardier Service Bulletin 100-24-28, dated July 27, 2016.

(ii) Bombardier Service Bulletin 350-24-003, dated July 27, 2016.

(3) For service information identified in this AD, contact Bombardier, Inc., 400 Côte-Vertu Road West, Dorval, Québec H4S 1Y9, Canada; telephone 514-855-5000; fax 514-855-7401; email thd.crj@aero.bombardier.com; Internet http://www.bombardier.com.

(4) You may view this service information at the FAA, Transport Standards Branch, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on August 9, 2017.
Dionne Palermo,
Acting Director, System Oversight Division, Aircraft Certification Service.

[FR Doc. 2017-17588 Filed 8-25-17; 8:45 am]

BILLING CODE 4910-13-P